FEDERAL COMMUNICATIONS COMMISSION

Information Collection Being Submitted for Review and Approval to the Office of Management and Budget

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to comment on the following information collection. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before September 6, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to the Federal Communications Commission's PRA mailbox (e-mail address: PRA@fcc.gov). Include in the e-mail the OMB control number of the collection as shown in the “Supplementary Information” section below, or if there is no OMB control number, include the Title as shown in the SUPPLEMENTARY INFORMATION section. If you are unable to submit your comments by e-mail, contact he person listed below to make alternate arrangements.

FOR FURTHER INFORMATION CONTACT: For additional information, contact Judith B. Herman at 202-418-0214 or via the Internet at Judith-b.herman@fcc.gov.

SUPPLEMENTARY INFORMATION: OMB Control Number: 3060-0395.

Title: ARMIS USOA Report (ARMIS Report 43-02); ARMIS Service Quality Report (ARMIS Report 43-05); and ARMIS Infrastructure Report (ARMIS Report 43-07).

Form No.: ARMIS Reports 43-02, 43-05 and 43-07.

Type of Review: Extension of a currently approved collection.

Respondents: Individuals or households and state, local or tribal government.

Number of Respondents: 48 respondent; 63 responses.

Estimated Time per Response: 322.50793 hours (average).

Frequency of Response: On occasion and annual reporting requirements and recordkeeping requirements.

Obligation to Respond: Mandatory. Statutory authority for this information collection is contained in 47 U.S.C. sections 160, 161, 209(b), and 220.

Total Annual Burden: 20,318 hours.

Total Annual Cost: N/A.

Privacy Act Impact Assessment: N/A.

Nature and Extent of Confidentiality: Ordinarily these reports do not involve questions of a sensitive nature are not involved in these ARMIS reports. The Commission contends that areas in which detailed information is required are fully subject to regulation and the issue of data being regarded as sensitive will arise in special circumstances only. In such circumstances, the respondent is instructed on the appropriate procedure to follow to safeguard sensitive or confidential data. The Commission has determined that certain data in FCC Reports 43-02 and 43-07 are proprietary, and we have accorded confidential treatment to the respondents upon request.

Needs and Uses: The Commission will submit this expiring information collection (IC) to the OMB during this comment period to obtain the three year clearance from them. The Commission is seeking OMB approval for an extension (no change in the reporting and/or recordkeeping requirements) of this information collection. The Commission is reporting a 850 hour increase adjustment in burden which is due to the addition of a respondent not included in prior ARMIS Report 43-05 review process.

The USOA Report provides the annual results of the carriers' activities for each account in the Uniform System of Accounts.

The Service Quality Report provides service quality information in the areas of interexchange access service, installation and repair intervals, local service installation and repair intervals, trunk blockage, and total switch downtime for price cap carriers.

The Infrastructure Report provides the switch deployment and capabilities data.

The information contained in the three reports provides the necessary detail to enable this Commission to fulfill its regulatory responsibilities. Automated reporting of these data greatly enhances the Commission's ability to process and analyze the extensive amounts of data it needs to administer its rules. ARMIS facilitates the timely and efficient analysis of revenue requirements, rates of return and price caps, and provides an improved basis for auditing and other oversight functions. It also enhances the Commission's ability to quantify the effects of policy proposals.

Federal Communications Commission.
Bulah P. Wheeler,
Deputy Manager, Office of the Secretary, Office of Managing Director.

[FR Doc. 2011-19880 Filed 8-4-11; 8:45 am]

BILLING CODE 6712-01-P